FEDERAL COMMUNICATIONS COMMISSION

Notice of Public Information Collection(s) Being Reviewed by the Federal Communications Commission

August 28, 2002.

SUMMARY: The Federal Communications Commission, as part of its continuing effort to reduce paperwork burden invites the general public and other Federal agencies to take this opportunity to comment on the following information collection(s), as required by the Paperwork Reduction Act of 1995, Public Law 104-13. An agency may not conduct or sponsor a collection of information unless it displays a currently valid control number. No person shall be subject to any penalty for failing to comply with a collection of information subject to the Paperwork Reduction Act (PRA) that does not display a valid control number. Comments are requested concerning (a) whether the proposed collection of information is necessary for the proper performance of the functions of the Commission, including whether the information shall have practical utility; (b) the accuracy of the Commission's burden estimate; (c) ways to enhance the quality, utility, and clarity of the information collected; and (d) ways to minimize the burden of the collection of information on the respondents, including the use of automated collection techniques or other forms of information technology.

DATES: Written comments should be submitted on or before October 7, 2002. If you anticipate that you will be submitting comments, but find it difficult to do so within the period of time allowed by this notice, you should advise the contact listed below as soon as possible.

ADDRESSES: Direct all comments to Judith Boley Herman, Federal Communications Commission, Room 1-C804, 445 12th Street, SW., DC 20554 or via the Internet to jboley@fcc.gov.

FOR FURTHER INFORMATION CONTACT: For additional information or copies of the information collection(s), contact Judith Boley Herman at 202-418-0214 or via the Internet at jboley@fcc.gov.

SUPPLEMENTARY INFORMATION: OMB Control No.: 3060-0812.

Title: Exemption From Payment of Regulatory Fees When Claiming Non-Profit Status.

Form No.: N/A.

Type of Review: Extension of a currently approved collection.

Respondents: Individuals or households, business or other for-profit, not-for-profit institutions, and state, local, and tribal government.

Number of Respondents: 4,000.

Estimated Time Per Response: .50 hours.

Frequency of Response: On occasion and one-time reporting requirements, and recordkeeping requirement.

Total Annual Burden: 2,000 hours.

Total Annual Cost: N/A.

Needs and Uses: This information is required when licensees and regulatees are requesting exemption from payment of regulatory fees due to their non-profit status. Licensees or regulatees are required to file one-time documentation sufficient to establish their proof of non-profit status. This documentation can be in the form of an Internal Revenue Service (IRS) determination letter, a state charter indicating their non-profit status, proof of church affiliation indicating tax exempt status, etc. The Commission requires that the licensee or regulate maintain this information for two years. This will allow adequate time to conduct audits, if necessary, or to determine whether fee payments were made correctly.

OMB Control No.: 3060-0687.

Title: Access to Telecommunications Equipment and Services by Persons with Disabilities, CC Docket No. 87-124.

Form No.: N/A.

Type of Review: Revision of a currently approved collection.

Respondents: Business or other for-profit.

Number of Respondents: 1,268.

Estimated Time Per Response: 9.86 hours.

Frequency of Response: Third party disclosure and labeling requirements.

Total Annual Burden: 25,000 hours.

Total Annual Cost: $272,000.

Needs and Uses: Section 68.300(b) requires telephones with electro-magnetic coil hearing aid compatibility to be stamped with the letters “HAC” (hearing aid compatible). Section 68.224 requires a notice to be contained on the surface of the packaging of a non-hearing aid compatible telephone that the telephone is not hearing aid compatible. The collections are third party disclosure and labeling requirements. The information is used primarily to inform consumers who purchase and/or use telephone equipment to determine whether the telephone is hearing aid compatible.

OMB Control No.: 3060-0793.

Title: Federal-State Joint Board on Universal Service, CC Docket No. 96-45, Procedures for Self Certifying as a Rural Carrier.

Form No.: N/A.

Type of Review: Revision of a currently approved collection.

Respondents: Business or other for-profit, and state, local, or tribal government.

Number of Respondents: 10.

Estimated Time Per Response: 1 hour.

Frequency of Response: On occasion reporting requirement, and third party disclosure requirement.

Total Annual Burden: 10 hours.

Total Annual Cost: N/A.

Needs and Uses: The Commission adopted proposals that carriers serving study areas with fewer than 100,000 access lines that already have certified their rural status need not re-certify for purposes of receiving support beginning January 1, 2000, and need only file thereafter if their status changes. Further carriers serving more than 100,000 access lines need to file rural certifications for their year 2001 status and thereafter only if their status has changed. All the requirements are necessary to implement the congressional mandate for universal service. The reporting requirements are necessary to verify that particular carriers and other respondents are eligible to receive universal service support.

Federal Communications Commission.
Marlene H. Dortch,
Secretary.

[FR Doc. 02-22647 Filed 9-5-02; 8:45 am]

BILLING CODE 6712-01-P